NUCLEAR REGULATORY COMMISSION

10 CFR Part 50

RIN 3150-AF94

Changes, Tests, and Experiments: Confirmation of Effective Date and Availability of Guidance

AGENCY: Nuclear Regulatory Commission.

ACTION: Final Rule: Confirmation of effective date and availability of guidance.

SUMMARY: The Nuclear Regulatory Commission amended its regulation concerning changes, tests, and experiments for nuclear reactors on October 4, 1999 (64 FR 53582). The effective date of this amendment was deferred until guidance on implementation of the revised provisions of the rule was issued to reactor licensees. This document announces the availability of that guidance (Regulatory Guide 1.187, “Guidance for Implementation of 10 CFR 50.59, Changes, Tests, and Experiments”) and specifies the effective date for the October 4, 1999, amendment to § 50.59.

DATES: The effective date of the October 9, 1999 amendment to 10 CFR 50.59 (64 FR 53613) is March 13, 2001.

ADDRESSES: Regulations, certain regulatory guides, and certain endorsed NEI documents are available for inspection or downloading at the NRC's web site, http://WWW.NRC.GOV. Single copies of regulatory guides may be obtained free of charge by writing the Reproduction and Distribution Services Section, U.S. Nuclear Regulatory Commission, Washington, DC 20555-0001, or by fax to (301) 415-2289, or by email to DISTRIBUTION@NRC.GOV. Issued guides may also be purchased from the National Technical Information Service on a standing order basis. Details on this service may be obtained by writing NTIS, 5285 Port Royal Road, Springfield, VA 22161. Copies of regulations, regulatory guides, and endorsed NEI documents are available for inspection or copying for a fee from the NRC's Public Document Room at 11555 Rockville Pike, Rockville, MD, 20852; the PDR's mailing address is Public Document Room, Washington DC 20555; telephone (301) 415-4737 or (800) 397-4209; fax (301) 415-3548; email PDR@NRC.GOV.

Comments and suggestions in connection with items for inclusion in regulations or regulatory guides are encouraged at any time. Written comments may be submitted to the Rules and Directives Branch, Office of Administration, U.S. Nuclear Regulatory Commission, Washington DC 20555.

FOR FURTHER INFORMATION CONTACT: E. M. McKenna, Office of Nuclear Reactor Regulation, U.S. Nuclear Regulatory Commission, Washington DC 20555; telephone (301) 415-2189; email EMM@NRC.GOV.

SUPPLEMENTARY INFORMATION:

Background

The Nuclear Regulatory Commission amended its rule, 10 CFR 50.59, “Changes, Tests, and Experiments” on October 4, 1999 (64 FR 53582). This amendment clarified the rule requirements, and also provided licensees greater flexibility to make certain changes without NRC approval that involve only minimal increases in likelihood or consequences of events. The implementation date of this amendment was made dependent upon guidance being issued to nuclear reactor licensees on implementing the revised requirements.

Regulatory Guide 1.187 endorses a document prepared by the Nuclear Energy Institute (NEI), NEI 96-07, Revision 1, dated November 2000. Regulatory Guide 1.187 was published for public comment (65 FR 24231) as DG-1095, “Guidance for Implementation of 10 CFR 50.59, Changes, Tests, and Experiments”. The comments submitted by licensees and other commenters were addressed by revisions made by NEI to NEI 96-07, Revision 1, as submitted in November 2000; the NRC staff concurs in these revisions.

Therefore, the effective date of the October 4, 1999, amendment to 10 CFR 50.59 is March 13, 2001.

Dated at Rockville, Maryland, this 6th day of December 2000.
For the Nuclear Regulatory Commission.
Annette Vietti-Cook,
Secretary of the Commission.

[FR Doc. 00-31735 Filed 12-12-00; 8:45 am]

BILLING CODE 7590-01-P 1